DEPARTMENT OF HEALTH AND HUMAN SERVICES

Centers for Disease Control and Prevention

Disease, Disability, and Injury Prevention and Control Special Emphasis Panel (SEP): Initial Review

The meeting announced below concerns Epidemiology, Prevention and Treatment of Influenza and Other Respiratory Infections in Ghana, IP12-001, Studies at the Animal-Human Interface of Influenza and Other Zoonotic Diseases in Vietnam, IP12-002, The Incidence of Community Associated Influenza and Other Respiratory Infections in the United States, IP12-003, and Epidemiology, Prevention and Treatment of Influenza and Other Respiratory Infections in Panama and Central America Region, IP12-006, initial review.

In accordance with Section 10(a)(2) of the Federal Advisory Committee Act (Pub. L. 92-463), the Centers for Disease Control and Prevention (CDC) announces the aforementioned meeting:

Time and Date: 8 a.m.-5 p.m., March 16, 2012 (Closed).

Place: Sheraton Gateway Hotel Atlanta Airport, 1900 Sullivan Road, Atlanta, Georgia 30337, Telephone: (770) 997-1100.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Epidemiology, Prevention and Treatment of Influenza and Other Respiratory Infections in Ghana, FOA IP12-001; Studies at the Animal-Human Interface of Influenza and Other Zoonotic Diseases in Vietnam, FOA IP12-002; The Incidence of Community Associated Influenza and Other Respiratory Infections in the United States, FOA IP12-003; and Epidemiology, Prevention and Treatment of Influenza and Other Respiratory Infections in Panama and Central America Region, FOA IP12-006.”

Contact Person For More Information: Gregory Anderson, M.S., M.P.H., Scientific Review Officer, CDC, 1600 Clifton Road NE., Mailstop E60, Atlanta, Georgia 30333, Telephone: (404) 718-8833.

The Director, Management Analysis and Services Office, has been delegated the authority to sign Federal Register notices pertaining to announcements of meetings and other committee management activities, for both the Centers for Disease Control and Prevention and the Agency for Toxic Substances and Disease Registry.

Dated: January 18, 2012.
Elaine L. Baker,
Director, Management Analysis and Services Office, Centers for Disease Control and Prevention.

[FR Doc. 2012-1665 Filed 1-25-12; 8:45 am]

BILLING CODE 4163-18-P